DEPARTMENT OF TRANSPORTATION

Office of the Secretary

Notice of Applications for Certificates of Public Convenience and Necessity and Foreign Air Carrier Permits Filed Under Subpart B (Formerly Subpart Q) During the Week Ending December 12, 2009

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0329.

Date Filed: December 9, 2009.

Due Date for Answers, Conforming Applications, or Motion to Modify Scope: December 30, 2009.

Description: Application of Kalitta Air, L.L.C. requesting: (1) A certificate of public convenience and necessity authorizing it to provide scheduled foreign air transportation of property and mail between a point or points in the United States and a point or points in China, via intermediate points, and beyond China to any point or points; (2) an exemption to the extent necessary authorizing the service described above; (3) designation as the additional U.S.-flag carrier permitted effective March 25, 2010; (4) allocation of six of the 15 scheduled all-cargo frequencies that become available March 25, 2010 or which are otherwise unused and available; (5) and motion to consolidate this application with the exemption application filed by Southern Air, Inc. to be considered contemporaneously.

Barbara J. Hairston,
Supervisory Dockets Officer, Docket Operations, Alternate Federal Register Liaison.

[FR Doc. 2010-131 Filed 1-7-10; 8:45 am]

BILLING CODE 4910-9X-P